FEDERAL MARITIME COMMISSION

Sunshine Act Meeting

AGENCY HOLDING THE MEETING: Federal Maritime Commission.

TIME AND DATE: November 17, 2015; 10:00 a.m.

PLACE: 800 N. Capitol Street NW., First Floor Hearing Room, Washington, DC.

STATUS: The first portion of the meeting will be held in Open Session; the second in Closed Session.

MATTERS TO BE CONSIDERED:

Open Session

1. Briefing on the Danish Maritime Forum.

Closed Session

1. Briefing on FMC-Transpacific Stabilization Agreement Semi-Annual Meeting.

2. Ocean Common Carrier and Marine Terminal Operator Agreements Subject to the 1984 Shipping Act—Regulatory Review.

CONTACT PERSON FOR MORE INFORMATION: Karen V. Gregory, Secretary, (202) 523-5725.

Karen V. Gregory,
Secretary.

[FR Doc. 2015-29161 Filed 11-10-15; 4:15 pm]

BILLING CODE 6731-AA-P